DEPARTMENT OF HEALTH AND HUMAN SERVICES

Centers for Disease Control and Prevention

[Program Announcement 00133]

Notice of Availability of Funds; Prevention Program Development and Technical Assistance To Improve Blood Safety and Reduce the Impact of HIV/AIDS in Countries Targeted by the Leadership and Investment in Fighting the Epidemic (LIFE) Initiative

A. Purpose

The Centers for Disease Control and Prevention (CDC) announces the availability of fiscal year (FY) 2000 funds for a cooperative agreement program for HIV/AIDS Prevention Program Development and Technical Assistance Collaboration with Countries Targeted by the LIFE (Leadership and Investment in Fighting an Epidemic) Initiative.

In July 1999, the Administration announced the LIFE Initiative to address the global AIDS pandemic. The LIFE initiative, an effort to expand and intensify the global response to the growing AIDS pandemic and its serious impact, is part of the United States (U.S.) Government's participation in the International Partnership Against HIV/AIDS in Africa (IPAA). A central feature of the LIFE Initiative is a $100 million increase in U.S. support for sub-Saharan African countries and India, which are working to prevent the further spread of HIV and to care for those affected by this devastating disease. This additional funding is a critical step by the U.S. Government in recognizing the impact that AIDS continues to have on individuals, families, communities, and nations and responding to the imperative to do more. The Department of Health and Human Services (HHS), through its agency the Centers for Disease Control and Prevention (CDC) is administering $35 million of the $100 million allocated to the LIFE Initiative by Congress.

The purpose of the program is to support HIV/AIDS prevention program development and technical assistance for countries designated by the U.S. Congress under the LIFE Initiative. At present, those countries are Botswana, Cote D'Ivoire, Kenya, South Africa, Uganda, Rwanda, Zimbabwe, Ethiopia, Mozambique, Malawi, Tanzania, Nigeria, Senegal, Zambia and India. The countries targeted represent those with the most severe epidemic and the highest number of new infections. They also represent countries where the potential for impact is greatest and where U.S. government agencies are already active.

The goals of the program are to address and support three program elements of the LIFE initiative: Primary Prevention, Capacity and Infrastructure Development, and Community and Home-Based Care and Treatment. The program described in this announcement calls for the delivery of HIV/AIDS prevention program development and technical assistance to the LIFE countries through a variety of recipient activities. The result will be an enhancement of the skills of officials from LIFE country national AIDS programs in strategic planning, implementation, evaluation, and communication relating to HIV/AIDS prevention and care programs.

B. Eligible Applicants

Assistance will be provided only to the American Red Cross (ARC) for this project. No other applications are solicited.

ARC is the appropriate and only qualified agency to provide the services specified under this cooperative agreement because:

1. As a member of the International Federation of Red Cross and Red Crescent Societies (the Federation), ARC is the only officially recognized Red Cross society within the United States representing the worldwide network of Red Cross National Societies. As such, it supports and implements Red Cross programs throughout Africa and India, including programs in the LIFE countries with a special focus on designing, implementing, and evaluating HIV/AIDS prevention programs and policy. This places ARC in a unique position to partner with the Federation, Red Cross National Societies and LIFE country public health officials in prevention programs. In addition, the same set of knowledge, skills, and abilities ARC has developed in working with domestic Red Cross entities, African and Indian National Societies, and the Federation are of critical importance in improving the capacity of national AIDS control programs in African countries and India.

2. Because of ARC's relationship to the Federation and Red Cross National Societies in LIFE countries, ARC can provide access to a broad, deep, and unique worldwide network. The Federation is an international humanitarian organization that exists to improve the situation of the world's most vulnerable people, including those impacted by HIV/AIDS. The Federation, founded in 1919, has a presence in more than 176 countries through its national Red Cross and Red Crescent societies. (The Red Crescent is used in place of the Red Cross in many Islamic countries.) The unique strength of the Federation lies in its global network of Red Cross National Societies and its Federation Secretariat with delegations strategically located to support Red Cross and Red Crescent activities in various regions. Red Cross and Red Crescent National Societies act as auxiliaries to the public authorities of their own countries and provide a range of services including health and social programs focusing on community-based outreach and service delivery through a network of volunteers.

3. Unique in its experience and capacity, ARC is the United States' largest supplier of blood, plasma, and tissue products as well as an innovator in blood safety. ARC is uniquely qualified to provide technical assistance to blood safety programs in LIFE countries. ARC Blood Services supplies almost half of the nation's blood by working with more than 4.5 million donors and 3,000 hospitals through its national network of 38 blood regions. In the 50 years since the inception of its national civilian blood services program, ARC has made several important contributions in the health care field, made major improvements to blood safety, and developed new blood products and technologies, helping to satisfy the changing health care needs in the U.S.

4. The American Red Cross has been the lead supporter technically and financially of the Federation-led African Red Cross/Red Crescent Health Initiative (ARCHI) 2010. ARCHI is a strategy to increase the impact of Red Cross National Society health programs Africa-wide. The overall goal of ARCHI is to measurably improve health in Africa. Over the next decade, the Centers for Disease Control and Prevention, the Federation, 53 African Red Cross and Red Crescent Societies and their related in-country Ministries of Health (MOH), United Nations Children's Fund (UNICEF), the World Health Organization (WHO), and multiple others have committed to building and enhancing Red Cross-delivered health programs throughout Africa. The ARCHI Initiative is the most comprehensive and inclusive process ever undertaken by the Federation to serve vulnerable populations throughout Africa.

5. Through participation in ARCHI, ARC has developed strong collaborative relationships with numerous domestic and international organizations. Internationally, ARC and the Federation have spearheaded ARCHI, which involves numerous collaborations with agencies such as MOHs, WHO, UNICEF, and the World Bank. Domestically, as the largest supplier of blood in the U.S., ARC is uniquely positioned to collaborate with Federal agencies and AIDS control program officials in blood safety.

6. ARC has access to a wealth of HIV/AIDS resources that may be adapted, both from its domestic programs and its international initiatives, such as the ARCHI tool kits and the Federation's Action with Youth, HIV/AIDS STDs: A Training Manual for Young People. Additionally, ARC and the Federation have expertise in establishing regional networking mechanisms for dissemination of information and lessons learned. For example, the “Caribbean Youth HIV/AIDS Network” (CARAN) and the “Asian Red Cross / Red Crescent Task Force on HIV/AIDS” (ART) are models that are being replicated in West Africa.

7. ARC has already developed a range of technical services domestically, including instructor training courses, communication and cooperation in sharing Red Cross HIV/AIDS information and resources on a statewide basis in the U.S., support of home care for people living with HIV/AIDS, and prevention among youth through peer-to-peer education programs. Through the Federation, ARC is uniquely positioned to disseminate this information to national AIDS control program officials in LIFE countries.

Note: Public Law 104-65 states that an organization described in section 501(c)(4) of the Internal Revenue Code of 1986 that engages in lobbying activities is not eligible to receive Federal funds constituting an award, grant, cooperative agreement, contract, loan or any other form.

C. Availability of Funds

Approximately $3 million is available in FY 2000 to support this award. It is expected that the award will begin on or about September 1, 2000, and will be made for a 12-month budget period within a project period of up to 3 years. Funding estimates may change. Continuation awards within an approved project period will be made on the basis of satisfactory progress as evidenced by required reports and the availability of funds.

Use of Funds

Funds received from this announcement will not be used for the purchase of antiretroviral drugs for treatment of established HIV infection, occupational exposures, and non-occupational exposures and will not be used for the purchase of machines and reagents to conduct the necessary laboratory monitoring for patient care.

Applicants may contract with other organizations under these cooperative agreements, however, applicants must perform a substantial portion of the activities (including program management and operations and delivery of prevention services for which funds are requested).

D. Where To Obtain Additional Information

This and other CDC announcements can be found on the CDC home page Internet address—http://www.cdc.gov. Scroll down the page, then click on “Funding” then “Grants and Cooperative Agreements.”

To receive additional written information and to request an application kit, call 1-888-GRANTS4 (1-888-472-6874). You will be asked to leave your name and address and will be instructed to identify the Announcement number of interest.

If you have questions after reviewing the contents of all the documents, business management technical assistance may be obtained from: Yolanda I. Gonzalez-Alvarez, Grants Management Specialist, Centers for Disease Control and Prevention (CDC), Procurement and Grants Office, Room 3000, Mailstop E-15, 2920 Brandywine Road, Atlanta, GA 30341-4146, Telephone: (770) 488-2781, E-mail: ybg0@cdc.gov.

For program technical assistance, contact: Leo Weakland, Deputy Coordinator, Global AIDS Activity (GAA), National Center for HIV, STD, and TB Prevention, Centers for Disease Control and Prevention (CDC), 1600 Clifton Road, Mailstop E-07, Atlanta, GA30333, Telephone number (404) 639-8016, Email address: lfw0@cdc.gov.

Dated: June 28, 2000.
John L. Williams,
Director, Procurement and Grants Office, Centers for Disease Control and Prevention (CDC).

[FR Doc. 00-16850 Filed 7-3-00; 8:45 am]

BILLING CODE 4163-18-P